DEPARTMENT OF THE INTERIOR

Bureau of Land Management

[LLCAD01000 L12200000.PM0000 18XL1109AF]

Meetings of the Dumont Dunes Subgroup of the California Desert District Advisory Council, CA

AGENCY: Bureau of Land Management, Interior.

ACTION: Notice of public meetings.

SUMMARY: In accordance with the Federal Land Policy and Management Act of 1976, the Federal Advisory Committee Act of 1972, and the Federal Lands Recreation Enhancement Act of 2004 (REA), the U.S. Department of the Interior, Bureau of Land Management (BLM) Dumont Dunes Subgroup of the California Desert District Advisory Council (DAC) will meet as indicated below.

DATES: The BLM's Dumont Dunes Subgroup of the California DAC will hold public meetings on March 24, 2018, from 12:00 p.m. to 2:30 p.m., and on September 18, 2018, from 12:00 p.m. to 2:30 p.m.

ADDRESSES: The meetings will be held at the Barstow Field Office, 2601 Barstow Rd., Barstow, CA 92311.

FOR FURTHER INFORMATION CONTACT: Katrina Symons, BLM Barstow Field Office, email: ksymons@blm.gov, telephone: 760-252-6000. Persons who use a telecommunications device for the deaf (TDD) may call the Federal Relay Service (FRS) at 1-800-877-8339 to contact the above individual during normal business hours. The FRS is available 24 hours a day, 7 days a week, to leave a message or question with the above individual. You will receive a reply during normal hours.

SUPPLEMENTARY INFORMATION: The Dumont Dunes Subgroup operates under the authority of the DAC and provides input to the BLM regarding issues pertinent to the Dumont Dunes Off-Highway Vehicle Area. Meetings are open to the public. Proposed agenda items for the two public meetings include holiday volunteer scheduling and BLM updates on management of the Area, according to the principles of multiple use and sustained yield. The public comment period for each meeting will be from 1:45 p.m. to 2:15 p.m.

Written comments may be filed in advance of the meetings addressed to the California Desert District Advisory Council, Dumont Dunes Subgroup, c/o Barstow Field Office, 2601 Barstow Rd., Barstow, CA 92311 or emailed to ksymons@blm.gov. Written comments are also accepted at the time of the meeting. Final agendas for the two public meetings will be posted on the BLM web page at: https://www.blm.gov/visit/dumont-dunes-ohv-area when finalized.

Before including your address, phone number, email address, or other personal identifying information in your comment, you should be aware that your entire comment—including your personal identifying information—may be made publicly available at any time. While you can ask in your comment that the BLM withhold your personal identifying information from public review, the BLM cannot guarantee that it will be able to do so.

Authority: 43 CFR 1784.4-2

Beth Ransel,
California Desert District Manager.

[FR Doc. 2018-04473 Filed 3-5-18; 8:45 am]

BILLING CODE 4310-40-P